DEPARTMENT OF COMMERCE

International Trade Administration

[A-533-857]

Final Determination of Sales at Less Than Fair Value and Final Negative Determination of Critical Circumstances: Certain Oil Country Tubular Goods From India

AGENCY: Enforcement and Compliance, International Trade Administration, Department of Commerce.

SUMMARY: The Department of Commerce (the Department) determines that imports of oil country tubular goods (OCTG) from India are being, or are likely to be, sold in the United States at less than fair value (LTFV), as provided in section 735 of the Tariff Act of 1930, as amended (the Act). The period of investigation is July 1, 2012, through June 30, 2013. The final weighted-average dumping margins are listed below in the section entitled “Final Determination.”

DATES: Effective Date: July 18, 2014.

FOR FURTHER INFORMATION CONTACT: Emily Halle, AD/CVD Operations, Office VII, Enforcement and Compliance, International Trade Administration, U.S. Department of Commerce, 14th Street and Constitution Avenue NW., Washington, DC 20230; telephone: (202) 482-0176.

SUPPLEMENTARY INFORMATION:

Background

The events that occurred since the Department published the Preliminary Determination on February 25, 2014,¹ are discussed in the Memorandum to Ronald K. Lorentzen, Acting Assistant Secretary for Enforcement and Compliance, from Christian Marsh, Deputy Assistant Secretary for Antidumping and Countervailing Duty Operations, “Issues and Decision Memorandum for the Final Affirmative Determination in the Less than Fair Value Investigation of Certain Oil Country Tubular Goods from India” (Issues and Decision Memorandum), which is dated concurrently with and hereby adopted by this notice.

¹ See Certain Oil Country Tubular Goods From India: Preliminary Determination of Sales at Less Than Fair Value, Preliminary Affirmative Determination of Critical Circumstances, in Part, and Postponement of Final Determination, 79 FR 10493 (February 25, 2014) (Preliminary Determination).

Scope of the Investigation

The merchandise covered by this investigation is certain oil country tubular goods (OCTG), which are hollow steel products of circular cross-section, including oil well casing and tubing, of iron (other than cast iron) or steel (both carbon and alloy), whether seamless or welded, regardless of end finish (e.g., whether or not plain end, threaded, or threaded and coupled) whether or not conforming to American Petroleum Institute (API) or non-API specifications, whether finished (including limited service OCTG products) or unfinished (including green tubes and limited service OCTG products), whether or not thread protectors are attached. The scope of the investigation also covers OCTG coupling stock. For a complete description of the scope of the investigation, see Appendix I to this notice.

Analysis of Comments Received

All issues raised in the case and rebuttal briefs by parties in this investigation are addressed in the Issues and Decision Memorandum which is hereby adopted by this notice. A list of the issues raised is attached to this notice as Appendix II. The Issues and Decision Memorandum is a public document and is on file electronically via Enforcement and Compliance's Antidumping and Countervailing Duty Centralized Electronic Service System (IA ACCESS). IA ACCESS is available to registered users at http://iaaccess.trade.gov and it is available to all parties in the Central Records Unit, room 7046 of the main Department of Commerce building. In addition, a complete version of the Issues and Decision Memorandum can be accessed directly at http://enforcement.trade.gov/frn/. The signed and electronic versions of the Issues and Decision Memorandum are identical in content.

Changes Since the Preliminary Determination

Based on our analysis of the comments received and our findings at verification, we made certain changes to the calculations of the weighted-average dumping margins. For a discussion of these changes, see the “Margin Calculations” section of the Issues and Decision Memorandum.

Verification

As provided in section 782(i) of the Act, in March and April, 2014, we verified the sales and cost information submitted by Jindal SAW Ltd. (Jindal SAW) and GVN Fuels Limited (GVN) for use in our final determination. We used standard verification procedures including an examination of relevant accounting and production records, and original source documents provided by Jindal SAW and GVN.²

² See the memoranda, “Verification of the Sales Response of Jindal SAW Ltd. in the Antidumping Duty Investigation of Oil Country Tubular Goods from India,” May 5, 2014; “Verification of the Sales Response of GVN Fuels Ltd in the Antidumping Duty Investigation of Oil Country Tubular Goods from India,” May 5, 2014; and “Verification of the Sales Response of Jindal SAW USA LLC and Jindal SAW's U.S. Branch in the Antidumping Duty Investigation of Oil Country Tubular Goods from India,” May 5, 2014.

Final Negative Determination of Critical Circumstances

In the Preliminary Determination, the Department found that critical circumstances exist for Jindal SAW, but not for GVN or for all other producers and exporters, in accordance with section 733(e)(1) of the Act and 19 CFR 351.206(c)(1).³ Our analysis of the data and comments submitted by interested parties leads us to change our findings from the Preliminary Determination.⁴ Therefore, in accordance with section 735(a)(3) of the Act, we find that critical circumstances do not exist with respect to imports from Jindal SAW or GVN, or all other producers or exporters of OCTG from India.

³ See Preliminary Determination, 79 FR 10493, 10494.

⁴ For a full description of the methodology and results of our analysis, see the Issues and Decision Memorandum.

Final Determination

The weighted-average dumping margins for this final determination are as follows:

Exporter or producer | Weighted-average dumping margin (percent)
Jindal SAW Ltd | 9.91
GVN Fuels Limited, Maharashtra Seamless Limited and Jindal Pipe Limited | 2.05
All Others | 5.79

Section 735(c)(5)(A) of the Act provides that the estimated “all others” rate shall be an amount equal to the weighted average of the weighted-average dumping margins calculated for the producers or exporters individually examined, excluding rates that are zero, de minimis or determined entirely under section 776 of the Act. We calculated an above de minimis weighted-average dumping margin for both of the mandatory respondents not based entirely on section 776 of the Act, but in weight-averaging these margins to arrive at the all others rate, we used public data so as not to disclose the proprietary information of Jindal SAW and GVN.⁵

⁵ See Memorandum, “Calculation of the Final Determination All-Others Rate,” July 10, 2014 (All-Others Rate Memorandum), providing the precise calculation relying on public information.

Disclosure

We will disclose the calculations performed within five days of the date of publication of this notice to parties in this proceeding in accordance with 19 CFR 351.224(b).

Suspension of Liquidation

For GVN, because the Preliminary Determination was negative, the Department will instruct U.S. Customs and Border Protection (CBP) to suspend liquidation of all appropriate entries of subject merchandise that are entered, or withdrawn from warehouse, for consumption on or after the publication date of this final determination, in accordance with section 735(c)(1)(C) of the Act. For Jindal SAW and for all other producers or exporters, the Department will instruct CBP to continue to suspend liquidation of all appropriate entries of subject merchandise that were entered, or withdrawn from warehouse, for consumption on or after February 25, 2014, the publication date of the Preliminary Determination in the Federal Register. We find that critical circumstances do not exist for Jindal SAW, GVN or any of the all other producers or exporters. Accordingly, we will instruct CBP to liquidate all appropriate entries of subject merchandise without regard to antidumping duties from Jindal SAW that were suspended prior to the publication date of the Preliminary Determination.

Further, the Department will instruct CBP to require a cash deposit equal to the weighted-average amount by which the normal value exceeds U.S. price, adjusted where appropriate for export subsidies, as follows: (1) The rate for Jindal SAW and GVN, when adjusted for export subsidies, is zero percent; (2) if the exporter is not a firm identified in this investigation, but the producer is, the rate will be the rate established for the producer of the subject merchandise, less export subsidies; (3) the rate for all other producers or exporters when adjusted for export subsidies is zero percent.⁶

⁶ Consistent with the Department's normal practice, because we calculated the “All Others Rate” in this investigation by weight-averaging public data from the two mandatory respondents, the “All Others Rate” included an export subsidy rate equal to the average of the CVD export subsidy rates applicable to the mandatory respondents. See Utility Scale Wind Towers From the People's Republic of China: Preliminary Determination of Sales at Less Than Fair Value and Postponement of Final Determination, 77 FR 46034, 46043 (August 2, 2012); see also All-Others Rate Memorandum for the derivation of the All-Others export subsidies.

International Trade Commission Notification

In accordance with section 735(d) of the Act, we will notify the International Trade Commission (ITC) of our final determination. In addition, we are making available to the ITC all non-privileged and non-proprietary information related to this investigation. We will allow the ITC access to all privileged and business proprietary information in our files, provided the ITC confirms that it will not disclose such information, either publicly or under an administrative protective order (APO), without the written consent of the Assistant Secretary for Enforcement and Compliance.

Notification to Importers

This notice serves as a final reminder to importers of their responsibility under 19 CFR 51.402(f)(2) to file a certificate regarding the reimbursement of antidumping duties prior to liquidation of the relevant entries. Failure to comply with this requirement could result in the Secretary's presumption that reimbursement of antidumping duties occurred and the subsequent assessment of double antidumping duties.

Administrative Protective Orders

This notice will serve as the only reminder to parties subject to an APO of their responsibility concerning the destruction of proprietary information disclosed under APO in accordance with 19 CFR 351.305(a)(3). Timely written notification of return/destruction or APO materials or conversion to judicial protective order is hereby requested. Failure to comply with the regulations and the terms of an APO is a sanctionable violation.

Notification to Interested Parties

We are issuing and publishing this determination and notice in accordance with sections 735(d) and 777(i) of the Act.

Dated: July 10, 2014.
Ronald K. Lorentzen,
Acting Assistant Secretary, for Enforcement and Compliance.

Appendix I

Scope of the Investigation

The merchandise covered by the investigation is certain oil country tubular goods (OCTG), which are hollow steel products of circular cross-section, including oil well casing and tubing, of iron (other than cast iron) or steel (both carbon and alloy), whether seamless or welded, regardless of end finish (e.g., whether or not plain end, threaded, or threaded and coupled) whether or not conforming to American Petroleum Institute (API) or non-API specifications, whether finished (including limited service OCTG products) or unfinished (including green tubes and limited service OCTG products), whether or not thread protectors are attached. The scope of the investigation also covers OCTG coupling stock.

Excluded from the scope of the investigation are: Casing or tubing containing 10.5 percent or more by weight of chromium; drill pipe; unattached couplings; and unattached thread protectors.

The merchandise subject to the investigation is currently classified in the Harmonized Tariff Schedule of the United States (HTSUS) under item numbers: 7304.29.10.10, 7304.29.10.20, 7304.29.10.30, 7304.29.10.40, 7304.29.10.50, 7304.29.10.60, 7304.29.10.80, 7304.29.20.10, 7304.29.20.20, 7304.29.20.30, 7304.29.20.40, 7304.29.20.50, 7304.29.20.60, 7304.29.20.80, 7304.29.31.10, 7304.29.31.20, 7304.29.31.30, 7304.29.31.40, 7304.29.31.50, 7304.29.31.60, 7304.29.31.80, 7304.29.41.10, 7304.29.41.20, 7304.29.41.30, 7304.29.41.40, 7304.29.41.50, 7304.29.41.60, 7304.29.41.80, 7304.29.50.15, 7304.29.50.30, 7304.29.50.45, 7304.29.50.60, 7304.29.50.75, 7304.29.61.15, 7304.29.61.30, 7304.29.61.45, 7304.29.61.60, 7304.29.61.75, 7305.20.20.00, 7305.20.40.00, 7305.20.60.00, 7305.20.80.00, 7306.29.10.30, 7306.29.10.90, 7306.29.20.00, 7306.29.31.00, 7306.29.41.00, 7306.29.60.10, 7306.29.60.50, 7306.29.81.10, and 7306.29.81.50.

The merchandise subject to the investigation may also enter under the following HTSUS item numbers: 7304.39.00.24, 7304.39.00.28, 7304.39.00.32, 7304.39.00.36, 7304.39.00.40, 7304.39.00.44, 7304.39.00.48, 7304.39.00.52, 7304.39.00.56, 7304.39.00.62, 7304.39.00.68, 7304.39.00.72, 7304.39.00.76, 7304.39.00.80, 7304.59.60.00, 7304.59.80.15, 7304.59.80.20, 7304.59.80.25, 7304.59.80.30, 7304.59.80.35, 7304.59.80.40, 7304.59.80.45, 7304.59.80.50, 7304.59.80.55, 7304.59.80.60, 7304.59.80.65, 7304.59.80.70, 7304.59.80.80, 7305.31.40.00, 7305.31.60.90, 7306.30.50.55, 7306.30.50.90, 7306.50.50.50, and 7306.50.50.70.

The HTSUS subheadings above are provided for convenience and customs purposes only. The written description of the scope of the investigation is dispositive.

Appendix II

List of Topics Discussed in the Issues and Decision Memorandum

1. Summary

2. Background

3. Critical Circumstances

4. Scope of the Investigation

5. Margin Calculations

6. Discussion of the Issues

7. Recommendation

[FR Doc. 2014-16868 Filed 7-17-14; 8:45 am]

BILLING CODE 3510-DS-P